DEPARTMENT OF HOUSING AND URBAN DEVELOPMENT

[Docket No. FR-5173-C-09]

Affirmatively Furthering Fair Housing Assessment Tool for Public Housing Agencies Solicitation of Comment— 60-Day Notice Under Paperwork Reduction Act of 1995; Correction

AGENCY: Office of the General Counsel, HUD.

ACTION: Notice, correction.

SUMMARY: On March 23, 2016, HUD published its 60-day notice in accordance with the Paperwork Reduction Act of 1995 for its Affirmatively Furthering Fair Housing Assessment Tool for Public Housing Agencies. In Section III of the notice, HUD inadvertently referred to the applicable assessment tool as the Assessment Tool for States and Insular Areas. This notice acknowledges the error in the notice, advises that HUD meant to reference the Assessment for Public Housing Agencies, and corrects this error.

FOR FURTHER INFORMATION CONTACT: Dustin Parks, Office of Fair Housing and Equal Opportunity, Department of Housing and Urban Development, 451 7th Street SW., Room 5249, Washington, DC 20410-0500; telephone number 202-708-1112 (this is not a toll-free number). Hearing- and speech-impaired persons can access this number through TTY by calling the Federal Relay Service at 800-877-8339 (this is a toll-free number).

SUPPLEMENTARY INFORMATION: On March 23, 2016, at 81 FR 15549, HUD published its notice soliciting comment for a period of 60-days, as required by the Paperwork Reduction Act, on its Affirmatively Furthering Fair Housing Assessment Tool for Public Housing Agencies (PHA Assessment Tool). This is the assessment tool to be used by public housing agencies (PHAs) in evaluating fair housing choice and access to opportunity in their jurisdictions, to identify barriers to fair housing choice and opportunity at the local and regional levels, and to set fair housing goals to overcome such barriers and advance fair housing choice. The PHA Assessment Tool is one of three assessment tools for which HUD has published notices for 60-day public comment. The other two assessment tools are the State and Insular Area Assessment Tool (81 FR 12921, published March 11, 2016) and the Local Government Assessment Tool (81 FR 15546, published March 23, 2016).

In Section III of the notice, at 81 FR 15553, third column, HUD inadvertently referred to the applicable assessment tool as the State and Insular Area Assessment Tool. HUD intended the reference to be the PHA Assessment Tool. This notice acknowledges the error, advises that HUD meant to reference the PHA Assessment Tool, and corrects this error.

Correction

In the Federal Register of March 23, 2016, in FR Doc. 2016-06492, on page 15553, third column, correct the second paragraph of section III entitled, Compliance With the Paperwork Reduction Act, to read:

The public reporting burden for the proposed PHA Assessment Tool is estimated to include the time for reviewing the instruction, searching existing data sources, gathering and maintaining the data needed, and completing and reviewing the collection of information.

Dated: April 8, 2016
Aaron Santa Anna,
Assistant General Counsel for Regulations.

[FR Doc. 2016-08565 Filed 4-13-16; 8:45 am]

BILLING CODE 4210-67-P